DEPARTMENT OF TRANSPORTATION

Office of the Secretary

[Docket No. DOT-OST-2023-0063]

Agency Information Collection Activities: Approval of Information Collection

AGENCY: Office of the Secretary (OST), DOT.

ACTION: 60-Day notice and request for comments.

SUMMARY: The Department of Transportation (DOT) invites public comments on our intention to request Office of Management and Budget (OMB) approval for an information collection in accordance with the requirements of the Paperwork Reduction Act of 1995. This collection is necessary for administration of the Reconnecting Communities (RCP) and Neighborhood Access and Equity (NAE) Discretionary Grant Programs and funding opportunities. Together, these programs are known as “Reconnecting Communities and Neighborhoods (RCN)” in the combined NOFO. RCN provides federal financial assistance for surface transportation infrastructure projects. Through RCP, this includes removing, retrofitting, or mitigating transportation facilities such as highways and rail lines that create barriers to community connectivity including to mobility, access, or economic development. Through NAE, this includes the RCP eligibilities, with the further ability to reduce burdens such as GHG emissions, hot spot areas, gaps in tree canopy coverage, and other natural environment concerns.

DATES: Written comments should be submitted by November 6, 2023.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor, Room W12-140, Washington, DC 20590-0001.

• Hand Delivery: West Building Ground Floor, Room W-12-140, 1200 New Jersey Ave. SE, between 9 a.m. and 5 p.m., Monday through Friday, except Federal holidays. The telephone number is 202-366-9329.

Instructions: To ensure proper docketing of your comment, please include the agency name and docket number [DOT-OST-2023-0063] at the beginning of your comments. All comments received will be posted without change to http://www.regulations.gov, including any personal information provided.

FOR FURTHER INFORMATION CONTACT: For further information regarding this notice, please contact the Office of the Secretary via email at ReconnectingCommunities@dot.gov or contact Andrew Emanuele at andrew.emanuele@dot.gov or 202-366-0622. A TDD is available for individuals who are deaf or hard of hearing at 202-366-3993.

SUPPLEMENTARY INFORMATION: New Collection. OMB number will be issued after the collection is approved.

Title: Reconnecting Communities Pilot Program and Neighborhood Access and Equity Program (Reconnecting Communities and Neighborhoods (RCN) Discretionary Grants.

Form Numbers: None.

Type of Review: New Information Collection Request (ICR).

Background: The Office of the Secretary (“OST”) within the Department of Transportation (DOT) provides financial assistance for surface transportation infrastructure projects—including removing, retrofitting, or mitigating transportation facilities such as highways and rail lines that create barriers to community connectivity including to mobility, access, or economic development. The Infrastructure Investment and Jobs Act (Pub. L. 117-58, November 15, 2021) (Bipartisan Infrastructure Law, or BIL) provided funds to the Department to invest in planning and capital construction grants to reduce transportation barriers: the Reconnecting Communities Pilot Program, found under section 11509 of division A. The Inflation Reduction Act (Pub. L. 117-169, August 16, 2022) (IRA) provided funds to the Department for the NAE to invest in planning and construction grants to improve the walkability, safety, and provide affordable access: the Neighborhood Access & Equity grant program, found at 23 U.S.C. 177: To help streamline the process for applicants, the Department has combined the applications for the RCP and NAE programs into the RCN common application.

The DOT combined these two programs into one single Notice of Funding Opportunity (NOFO) to provide a more efficient application process for project sponsors. While they remain separate programs for the purposes of award, the programs share many common characteristics. Because of these shared characteristics, it is possible for many projects to be eligible and considered for multiple programs using a single application.

This notice seeks comments on the proposed information collection, which will collect information necessary to support the ongoing oversight and administration of previous awards, a Letter of Intent screening tool, the evaluation and selection of new applications, the funding agreement negotiation stage for new awards, and the evaluation of the programs. The reporting requirements for the program is as follows:

Prior to applying, a project sponsor may fill out a “Letter of Intent” screening tool to help determine eligibility for one or both programs within the RCN NOFO or help direct them to a more appropriate grant program.

To be considered to receive an RCN grant, a project sponsor must submit an application to DOT containing a project narrative, as detailed in the NOFO. The project narrative should include the information necessary for the Department to determine that the project satisfies eligibility requirements as warranted by law.

After the award announcement the Department will send out a voluntary survey to all applicants and webinar participants to help evaluate the application process.

Following the announcement of a funding award, the recipient and DOT will negotiate and sign a funding agreement with awardees. In the agreement, the recipient must describe the project that DOT agreed to fund, which is the project that was described in the RCN application or a reduced-scope version of that project. The agreement also includes project schedule milestones, a budget, and project-related climate change, equity, and workforce planning and policies.

During the project monitoring stage, grantees will submit reports on the financial condition of the project and the project's progress. Grantees will submit progress and monitoring reports to the Government on a quarterly basis until completion of the project. The progress reports will include an SF-425, Federal Financial Report, and other information determined by the administering DOT Operating Administration. This information will be used to monitor grantees' use of Federal funds, ensuring accountability and financial transparency in the RCN programs.

For Post Construction Reporting, the DOT will evaluate the program for recipients of capital construction grants and include the outcomes and impacts of the highway removal project, The report will document any changes in the overall level of mobility, congestion, access, and safety in the project area, and environmental impacts and economic development opportunities in the project area. Performance reporting continues for several years after project construction is completed in which DOT will not provide grant funding specifically for performance reporting.

For the purposes of estimating the information collection burden below for new applicants and awardees, the Department is assuming that for each year 2023-2025, the Department will review approximately 1,000 applications and negotiate 100 funding agreements. Quarterly project monitoring will also exist for the 45 RCP projects awarded in FY22. For a detailed breakdown of burden hours, please see Table 1.

Table 1
Respondent | Year 1 (2023): # | Year 1 (2023): Hrs. | Year 1 (2023): Freq. | Year 2 (2024): # | Year 2 (2024): Hrs. | Year 2 (2024): Freq. | Year 3 (2025): # | Year 3 (2025): Hrs. | Year 3 (2025): Freq. | Total hrs.
Letter of Intent | 600 | 0.5 | 1 |  |  |  |  |  |  | 300
Applicants | 1,000 | 100 | 1 |  |  |  |  |  |  | 100,000
Survey | 700 | 0.5 | 1 |  |  |  |  |  |  | 350
Awardee Funding Agreements |  |  |  | 100 | 6 | 1 |  |  |  | 600
Quarterly Monitoring (2022) | 45 | 5 | 4 |  |  |  |  |  |  | 900
Letter of Intent |  |  |  | 600 | 0.5 | 1 |  |  |  | 300
Applicants |  |  |  | 1,000 | 100 | 1 |  |  |  | 100,000
Survey |  |  |  | 700 | 0.5 | 1 |  |  |  | 350
Awardee Funding Agreements |  |  |  |  |  |  | 100 | 6 | 1 | 600
Quarterly Monitoring (2022 & 2023) |  |  |  | 145 | 5 | 4 |  |  |  | 2,900
Letter of Intent |  |  |  |  |  |  | 250 | 0.5 | 1 | 125
Applicants |  |  |  |  |  |  | 435 | 100 | 1 | 43,500
Survey |  |  |  |  |  |  | 300 | 0.5 | 1 | 150
Awardee Funding Agreements |  |  |  |  |  |  |  |  |  |
Quarterly Monitoring (2022, 2023, 2024) |  |  |  |  |  |  | 245 | 5 | 4 | 4,900
Grand Total |  |  |  |  |  |  |  |  |  | 254,975

The Department's estimated burden for this information collection is the following:

For Letter of Intent Screening Tool

Expected Number of Respondents: Approximately 600 in Year 1 and 2. DOT expects 250 in Year 3 with depletion of NAE funding by then, reducing those using the tool.

Frequency: Once.

Estimated Average Burden per Response: .5 hours.

For New Applications

Expected Number of Respondents: Approximately 1,000 in Year 1 and 2. 435 are expected for Year 3 with depletion of NAE funding.

Frequency: Once.

Estimated Average Burden per Response: 100 hours for each new Application;

For Program Evaluation (Survey)

Expected Number of Respondents: Approximately 700 in Year 1 and 2. 300 in Year 3.

Frequency: Once.

Estimated Average Burden per Response: 0.5 hours for each application;

For Funding Agreements

Expected Number of Respondents: Approximately 100 in Year 1 and 2.

Frequency: Once.

Estimated Average Burden per Response: 6 hours for each new Funding Agreement;

For Quarterly Project Monitoring

Expected Number of Respondents: Approximately 45 in Year 1. 100 in Year 2 and Year 3.

Frequency: Quarterly.

Estimated Average Burden per Response: 5 hours for each request for Quarterly Progress and Monitoring Report;

For Post-Construction Project Monitoring

Because RCN expect no projects to complete construction by 2025, post-construction monitoring hours and cost are not computed in this document.

Estimated Total 3-Year Burden on Respondents: 254,975 Hours

• Letter of Intent [825 hrs]

• New Applicants [242,000 hrs]

• Survey [850 hrs]

• New Awardee Funding Agreements [1,200 hrs]

• Prior Awardee Quarterly Project Monitoring [8,700]

The following is detailed information and instructions regarding the specific reporting requirements for each report identified above:

Letter of Intent Screening Stage

To help applicants determine their eligiblity for the RCN combined grant opportunity, OST will develop and use the “Letter of Intent” tool to help applicants determine eligiblity for the programs or what application materials they may be missing. The Letter of Intent screening tool will save potential applicants hundreds of hours of application development time if the project has a “fatal flaw” that would render it ineligible. The Letter of Intent tool will consist of 10-20 questions and takes .5 hrs to fill out.

Application Stage

To be considered to receive a RCN grant, a project sponsor must apply to DOT containing a project narrative, as detailed in the NOFO. The project narrative should include the information necessary for the Department to determine that the project satisfies eligibility requirements.

Applications must be submitted through www.valideval.com. Instructions for submitting Planning or Capital applications can be found at https://usg.valideval.com/teams/rcn_planning/signup or https://usg.valideval.com/teams/rcn_captialconstruction/signup, respectively. The application must include the Standard Form 424 (Application for Federal Assistance), Standard Form 424C (Budget Information for Construction Programs), cover page, and the Project Narrative.

The application should include a table of contents, maps, and graphics, as appropriate, to make the information easier to review. The Department recommends that the application be prepared with standard formatting preferences (i.e., a single-spaced document, using a standard 12-point font such as Times New Roman, with 1-inch margins). The only substantive portions that may exceed the page limit are documents supporting assertions or conclusions made in the project narrative. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged.

OST estimates that it takes approximately 100 person-hours to compile an application package for a RCN application. Since OST expects to receive 1000 applications per funding round, the total hours required are estimated to be 50,00 hours (100 hours × 1,000 applications = 100,000 hours) on a one-time basis, per funding round.

Program Evaluation Stage (Survey)

To understand the RCN grant process from the applicant's point of view, OST plans to send out a survey after all award decisions have been made. This survey will go to all applicants, both successful and unsuccessful, and will take approximately .5 hours to complete.

Funding Agreement Stage

DOT enters a funding agreement with each recipient. In the agreement, the recipient describes the project that DOT agreed to fund, which is typically the project that was described in the RCN application or a reduced-scope version of that project. The agreement also includes a project schedule, budget, and project related climate change and equity planning and policies.

OST estimates that it takes approximately 6 person-hours to respond to provide the information necessary for funding agreements. Based on previous rounds of RCN awards, OST estimates that there will likely be 100 agreements negotiated per additional funding round. The total hours required are estimated to be 600 (6 hours × 100 agreements = 600 hours) on a one-time basis, per funding round.

Project Monitoring Stage

OST requires each recipient to submit quarterly reports during the project to ensure the proper and timely expenditure of federal funds under the grant.

The requirements comply with 2 CFR part 200 and are restated in the funding agreement. During the project monitoring stage, the grantee will complete Quarterly Progress Reports to allow DOT to monitor the project budget and schedule.

OST estimates that it takes approximately 5 person-hours to develop and submit a quarterly progress report. OST awarded 45 recipients and awardees in 2022. OST expects approximately 100 projects to be awarded per funding round.

Post Construction Monitoring Stage

For Post Construction Reporting, the DOT will evaluate the program for recipients of capital construction grants and include the outcomes and impacts of the highway removal project, The report will document any changes in the overall level of mobility, congestion, access, and safety in the project area, and environmental impacts and economic development opportunities in the project area. Because RCN expect no projects to complete construction by 2025, post-construction monitoring hours and cost are not computed in this document.

Authority: The Paperwork Reduction Act of 1995; 44 U.S.C. Chapter 35, as amended; and 49 CFR 1:48.

Issued in Washington, DC, on August 31st, 2023.
John Augustine,
Director of the Office of Infrastructure Finance and Innovation, Office of the Under Secretary for Transportation Policy.

[FR Doc. 2023-19175 Filed 9-5-23; 8:45 am]

BILLING CODE 4910-9X-P